DEPARTMENT OF HEALTH AND HUMAN SERVICES

Health Resources and Services Administration

Meeting of the National Advisory Council on the National Health Service Corps

AGENCY: Health Resources and Services Administration (HRSA), Department of Health and Human Services.

ACTION: Notice; correction.

SUMMARY: The National Advisory Council on the National Health Service Corps (NACNHSC) meeting scheduled for Tuesday, June 16, 2020, and Wednesday, June 17, 2020, has changed its format, date, and time. The decision to change the NACNHSC meeting has been made after carefully examining the Centers for Disease Control and Prevention's recommendations to restrict all non-essential travel, and the widespread health risks posed by COVID-19 to the American public. The public meeting will now be a one-day webinar and conference call held only on Tuesday, June 16, 2020, from 9:30 a.m.-1:30 p.m. Eastern Time. The webinar link, conference dial-in number, meeting materials, and updates will be available on the NACNHSC website: https://nhsc.hrsa.gov/about/national-advisory-council-nhsc/index.html.

FOR FURTHER INFORMATION CONTACT: Diane Fabiyi-King, Designated Federal Official, Division of the National Health Service Corps, HRSA. Address: 5600 Fishers Lane, Room 14N110, Rockville, Maryland 20857; phone (301) 443-3609; or DFabiyi-King@hrsa.gov.

Correction: This meeting will be a one-day webinar and conference call only, rather than an in-person, two-day meeting as previously announced in the Federal Register, Vol. 84, No. 244 on Thursday, December 19, 2019 (FR Doc. 2019-27357 Filed 12-18-19).

Maria G. Button,
Director, Executive Secretariat.

[FR Doc. 2020-09264 Filed 4-30-20; 8:45 am]

BILLING CODE 4165-15-P